DEPARTMENT OF TRANSPORTATION

Coast Guard

33 CFR Part 117

[CGD11-01-001]

Drawbridge Operation Regulations; Sacramento River, CA

AGENCY: Coast Guard, DOT.

ACTION: Notice of temporary deviation from regulations.

SUMMARY: The Commander, Eleventh Coast Guard District has approved a temporary deviation to the regulations governing the opening of the Meridian drawbridge, mile 135.5, over the Sacramento River at Meridian, CA. The approval specifies that the drawbridge need not open for vessel traffic from January 15 through March 14, 2001. The drawbridge can operate on 24 hours advance notice in the event of an emergency. The purpose of this deviation is to allow the California Department of Transportation to perform essential maintenance on the bridge.

DATES: Effective period of the deviation is 12 a.m. January 15, 2001, through 12 p.m. March 14, 2001.

FOR FURTHER INFORMATION CONTACT: Mr. David H. Sulouff, Chief, Bridge Section, Eleventh Coast Guard District, Building 50-6, Coast Guard Island, Alameda, CA 94501-5100, phone (510) 437-3516.

SUPPLEMENTARY INFORMATION: The Meridian drawbridge, mile 135.5, over the Sacramento River at Meridian, CA provides 10.3 feet vertical clearance above High Water when closed. Vessels that can pass under the bridge without an opening may do so at all times. This deviation has been coordinated with navigation on the waterway. The drawbridge has not been requested to open for navigation for approximately five years. No objections were received. The normal drawbridge regulation requires the bridge to open on signal if at least 12 hours advance notice is given.

In accordance with 33 CFR 117.35(c), this work will be performed with all due speed in order to return the bridge to normal operation as soon as possible. This deviation from the normal operating regulations in 33 CFR 117.189(b) is authorized in accordance with the provisions of 33 CFR 117.35.

Dated: January 12, 2001.
Ernest R. Riutta,
Vice Admiral, Coast Guard, Commander, Eleventh Coast Guard District.

[FR Doc. 01-2043 Filed 1-22-01; 8:45 am]

BILLING CODE 4910-15-P